DEPARTMENT OF THE INTERIOR

Bureau of Indian Affairs

The Three Affiliated Tribes of the Fort Berthold Indian Reservation Amendment to Their Liquor Ordinance

AGENCY: Bureau of Indian Affairs, Interior.

ACTION: Notice.

SUMMARY: This notice publishes an amendment to the Liquor Ordinance of the Three Affiliated Tribes of the Fort Berthold Indian Reservation of North Dakota (Tribe). This amendment brings the existing Liquor Ordinance of the Tribe which regulates and controls the possession, sale and consumption of liquor within the Tribe's reservation into conformance with a change in state law. The Liquor Ordinance allows for possession and sale of alcoholic beverages within the Three Affiliated Tribes of the Fort Berthold Indian Reservation, and increases the ability of the tribal government to control the Tribe's liquor distribution and possession. At the same time it will provide an important source of revenue for the continued operation and strengthening of the tribal government and the delivery of tribal services.

DATES: Effective Date: This Ordinance is effective on March 19, 2007.

FOR FURTHER INFORMATION CONTACT: Jim Steele, Regional Tribal Government Officer, Great Plains Regional Office, Bureau of Indian Affairs, 115 4th Avenue, SE., MC100, Aberdeen, SD 57401, Telephone: (605) 226-7343, Telefax: (605) 226-7446; or Ralph Gonzales, Office of Indian Services, 1849 C Street, NW., Mail Stop 4513-MIB, Washington, DC 20240; Telephone: (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Three Affiliated Tribes of the Fort Berthold Indians Tribal Council adopted this amendment to their Liquor Ordinance by Resolution No. 06-131-NH on October 12, 2006. The purpose of this amendment is to bring their current Liquor Control Ordinance into conformance with a recent change to state law.

This notice is published in accordance with the authority delegated by the Secretary of the Interior to the Principal Deputy Assistant Secretary—Indian Affairs. I certify that this amendment to the Liquor Ordinance of the Three Affiliated Tribes of the Fort Berthold Indians was duly adopted by the Three Affiliated Tribes of the Fort Berthold Indians Tribal Council on October 12, 2006.

Dated: March 2, 2007.
Michael D. Olsen,
Principal Deputy Assistant Secretary—Indian Affairs.

The Three Affiliated Tribes of the Fort Berthold Indians of North Dakota Amendment reads as follows:

Section 5: Dispensing Prohibited on Certain Days

A person may not dispense or permit the consumption of alcohol beverage on a licensed premise between the hours two a.m. and twelve noon on Sundays, between the hours of two a.m. and eight a.m. on all other days of the week, or on Christmas Day or after six p.m. on Christmas Eve. In addition a person may not provide off-sale after one a.m. on Thanksgiving Day.

[FR Doc. E7-4366 Filed 3-9-07; 8:45 am]

BILLING CODE 4310-4J-P